DEPARTMENT OF LABOR

Employment and Training Administration

Proposed Collection of the ETA 538, Advance Weekly Initial and Continued Claims Report and the ETA 539, Weekly Claims and Extended Benefits Trigger Data; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration, Office of Workforce Security is soliciting comments concerning the proposed extension of the collection of the ETA 538, Advance Weekly Initial and Continued Claims Report and the ETA 539, Weekly Claims and Extended Benefits Trigger.

A copy of the proposed information collection request (ICR) can be obtained by contacting the office listed below in the addressee section of this notice.

DATES: Written comments must be submitted to the office listed in the addressee's section below on or before June 24, 2003.

ADDRESSES: Thomas Stengle, U.S. Department of Labor, Employment and Training Administration, Room S-4231, 200 Constitution Avenue, NW., Washington, DC 20210, Phone: 202-693-2991, Fax: 202-693-3229, e-mail: stengle.thomas@dol.gov.

SUPPLEMENTARY INFORMATION:

I. Background

The ETA 538 and ETA 539 reports are weekly reports which contain information on initial claims and continued weeks claimed. These figures are important economic indicators. The ETA 538 provides information that allows national unemployment claims information to be released to the public five days after the close of the reference period. The ETA 539 contains more refined weekly claims detail and the state's 13-week insured unemployment rate, which is used to determine eligibility for the Extended Benefits program.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The ETA 538 and ETA 539 continue to be needed as they provide both timely economic indicators as well as the information needed to track the data that triggers states “on” and “off” the Extended Benefits program.

Type of Review: Extension without change.

Title: ETA 538, Advance Weekly Initial and Continued Claims Report and the ETA 539, Weekly Claims and Extended Benefits Trigger Data.

OMB Number: 1205-0028.

Agency Number: ETA 538 and ETA 539.

Recordkeeping: Respondent is expected to maintain data which support the reported data for three years.

Affected Public: State governments.

Estimated Total Burden Hours:

| Hours
ETA 538 53 States × 52 reports × 30 min. = | 1378
ETA 539 53 States × 52 reports × 50 min. = | 2297
Total Burden | 3675

Total Burden Cost (operating/maintaining): $0.

Comments submitted in response to this comment request will be summarized and/or included in the request for Office of Management and Budget approval of the information collection request; they will also become a matter of public record.

Dated: April 18, 2003.
Cheryl Atkinson,
Administrator, Office of Workforce Security.

[FR Doc. 03-10238 Filed 4-24-03; 8:45 am]

BILLING CODE 4510-30-P